AFRICAN DEVELOPMENT FOUNDATION

Board of Directors Executive Session Meeting

Meeting: African Development Foundation, Board of Directors Executive Session Meeting

Time: Tuesday, April 23, 2013 11:15 a.m. to 2:15 p.m.

Place: 1400 Eye Street NW., Suite 1000, Washington, DC 20005

Date: Tuesday, April 23, 2013

Status:

1. Open session, Tuesday, April 23, 2013, 11:15 a.m. to 12:10 p.m. 1:15 p.m. to 2:15 p.m.

2. Closed session, Tuesday, April 23, 2013, 12:15 p.m. to 1:10 p.m.

Please contact Michele Rivard, Chief of Staff, by 5:00 p.m. on Friday, April 19 if you plan to attend the open session.

Doris Mason Martin,
General Counsel, USADF.

[FR Doc. 2013-08780 Filed 4-12-13; 8:45 am]

BILLING CODE P